DEPARTMENT OF ENERGY

Federal Energy Regulatory Commission

Combined Notice of Filings

Take notice that the Commission has received the following Natural Gas Pipeline Rate and Refund Report filings:

Docket Numbers: PR21-12-000.

Applicants: Black Hills Wyoming Gas, LLC.

Description: § 284.123(g) Rate Filing: NJR Energy Services Negotiated Rate Amendment to be effective 12/24/2020.

Filed Date: 12/23/20.

Accession Number: 202012235028.

Comments Due: 5 p.m. ET 1/13/2021.

284.123(g) Protests Due: 5 p.m. ET 2/22/2021.

Docket Numbers: RP21-326-000.

Applicants: Tennessee Gas Pipeline Company, L.L.C.

Description: Motion to Intervene of Antero Resources Corporation under RP21-326.

Filed Date: 12/23/20.

Accession Number: 20201223-5188.

Comments Due: 5 p.m. ET 1/4/21.

Docket Numbers: RP21-328-000.

Applicants: Florida Gas Transmission Company, LLC.

Description: Compliance filing Annual Accounting Report on 12-23-20 to be effective N/A.

Filed Date: 12/23/20.

Accession Number: 20201223-5001.

Comments Due: 5 p.m. ET 1/4/21.

Docket Numbers: RP21-329-000.

Applicants: Iroquois Gas Transmission System, L.P.

Description: § 4(d) Rate Filing: 122320 Negotiated Rates—Castleton Commodities Merchant Trading L.P. R-4010-28 to be effective 1/1/2021.

Filed Date: 12/23/20.

Accession Number: 20201223-5008.

Comments Due: 5 p.m. ET 1/4/21.

Docket Numbers: RP21-330-000.

Applicants: Iroquois Gas Transmission System, L.P.

Description: § 4(d) Rate Filing: 122320 Negotiated Rates—Castleton Commodities Merchant Trading L.P. R-4010-27 to be effective 1/1/2021.

Filed Date: 12/23/20.

Accession Number: 20201223-5009.

Comments Due: 5 p.m. ET 1/4/21.

Docket Numbers: RP21-331-000.

Applicants: Iroquois Gas Transmission System, L.P.

Description: § 4(d) Rate Filing: 122320 Negotiated Rates—Shell Energy North America (US), L.P. R-2170-15 to be effective 1/1/2021.

Filed Date: 12/23/20.

Accession Number: 20201223-5012.

Comments Due: 5 p.m. ET 1/4/21.

Docket Numbers: RP21-332-000.

Applicants: Iroquois Gas Transmission System, L.P.

Description: § 4(d) Rate Filing: 122320 Negotiated Rates—Shell Energy North America (US), L.P. R-2170-16 to be effective 1/1/2021.

Filed Date: 12/23/20.

Accession Number: 20201223-5013.

Comments Due: 5 p.m. ET 1/4/21.

Docket Numbers: RP21-333-000.

Applicants: Enable Mississippi River Transmission, L.

Description: § 4(d) Rate Filing: MRT Tariff Cleanup Filing—February 2021 to be effective 2/1/2021.

Filed Date: 12/23/20.

Accession Number: 20201223-5027.

Comments Due: 5 p.m. ET 1/4/21.

Docket Numbers: RP21-334-000.

Applicants: Northern Natural Gas Company.

Description: § 4(d) Rate Filing: 20201223 Negotiated Rate to be effective 12/29/2020.

Filed Date: 12/23/20.

Accession Number: 20201223-5073.

Comments Due: 5 p.m. ET 1/4/21.

Docket Numbers: RP21-334-000.

Applicants: Northern Natural Gas Company.

Description: (doc-less) Motion to Intervene of Northern States Power Company—Minnesota and Northern States Power Company—Wisconsin under RP21-334.

Filed Date: 12/23/20.

Accession Number: 20201223-5104.

Comments Due: 5 p.m. ET 1/4/21.

Docket Numbers: RP21-335-000.

Applicants: Columbia Gas Transmission, LLC.

Description: § 4(d) Rate Filing: NJR Energy Services Negotiated Rate Amendment to be effective 12/24/2020.

Filed Date: 12/23/20.

Accession Number: 20201223-5111.

Comments Due: 5 p.m. ET 1/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2020.
Nathaniel J. Davis, Sr.,
Deputy Secretary.

[FR Doc. 2020-29072 Filed 12-31-20; 8:45 am]

BILLING CODE 6717-01-P